DEPARTMENT OF TRANSPORTATION

Federal Highway Administration

Solicitation of Applications for Certain Federal-Aid Highway Funding Available in Fiscal Year 2007 Under Federal Highway Discretionary Grant Programs

AGENCY: Federal Highway Administration (FHWA), DOT.

ACTION: Notice of funding availability.

SUMMARY: The purpose of this notice is to solicit applications for Federal grant funding and to issue supplemental notice and information to eligible grantees concerning discretionary grant funds available for obligation in Fiscal Year 2007 under eight discretionary grant programs administered by FHWA. It seeks applications (either new or amended) to the programs that both meet the programs' respective statutory criteria and emphasize the proposed projects' highway safety and congestion reduction benefits. The FHWA will make its funding determinations through a merit-based selection process.

This notice applies to the following programs: the Ferry Boat Discretionary Program (23 U.S.C. 147), the Innovative Bridge Research and Construction Program (23 U.S.C. 503(b)), the Interstate Maintenance Discretionary Program (23 U.S.C. 118(c)), Public Lands Highway Discretionary Program (23 U.S.C. 202-204), the Highways for Life Pilot (HfL) Program (§ 1502 of Pub. L. 109-59), the Transportation Community and System Preservation Program (§ 1117 of Pub. L. 109-59), the Truck Parking Facilities Pilot Program (§ 1305 of Pub. L. 109-59), and the Delta Region Transportation Development Program (§ 1308 of Pub. L. 109-59).

DATES: Applications must be submitted by April 30, 2007, unless otherwise specified (see SUPPLEMENTARY INFORMATION Section D). Late-filed applications may be considered to the extent practical. This deadline generally represents an extension of approximately 30 days from the original deadline for applications.

ADDRESSES: Applications should be submitted electronically in MS Word format by eligible applicants, generally State transportation departments, by following the instructions provided under the Supplemental Action Memoranda issued by FHWA to the State DOTs for the above-referenced discretionary programs. The Supplemental Action Memoranda for the various discretionary programs are posted on the FHWA Web site: http://www.fhwa.dot.gov/discretionary/currsol.htm.

FOR FURTHER INFORMATION: Please address questions concerning this notice to Steve Rochlis, Office of Chief Counsel, Federal Highway Administration, U.S. Department of Transportation, via e-mail at Steve.Rochlis@dot.gov or (202) 366-1395, or to Thomas M. McNamara, Office of the Secretary, via e-mail at Thomas.McNamara@dot.gov. Questions concerning the specific grant program should be directed to the point of contact listed on the information memoranda and posted on the FHWA Web site.

SUPPLEMENTARY INFORMATION: Electronic Access: An electronic copy of this document may be downloaded from the Office of the Federal Register's home page at: http://www.archives.gov and the Government Printing Office's Web page at: http://www.access.gpo.gov/nara.

A. Background

The FHWA Administrator, acting on behalf of the Secretary, is authorized to provide Federal grant assistance for the above programs on a discretionary basis, and is seeking applications for the Ferry Boat Discretionary Program, the Innovative Bridge Research and Construction Program, the Interstate Maintenance Discretionary Program, the Public Lands Highway Discretionary Program, the Highways for Life Pilot Program, the Transportation Community and System Preservation Program, the Truck Parking Facilities Pilot Program, and the Delta Region Transportation Development Program. This notice supplements FHWA's requests for applications to all eight discretionary programs. It seeks applications (either new or amended) to the programs that both meet the programs' respective statutory criteria and emphasize the proposed projects' highway safety and congestion reduction benefits.

In a 1999 report (GAO/RCED 99-263 “Transportation Infrastructure—FHWA Should Assess and Compare the Benefits of Projects When Awarding Discretionary Grants”), the Government Accountability Office (GAO) found that FHWA's process for considering applications for discretionary grants did not sufficiently emphasize a comparative analysis of the projects' transportation benefits. In the report, GAO urged FHWA to do more such analysis, and to ensure that FHWA funds projects that provide the greatest transportation benefits. To address the concerns outlined in the GAO report, as well as others raised during an internal review, FHWA has decided to be more strategic in its FY 2007 discretionary grant awards process by targeting its resources toward projects that provide the greatest benefits. FHWA is particularly focusing on projects with substantial benefits related to either highway safety or congestion relief and invites application of large-scale high-cost projects that provide strategic and substantial safety or congestion reduction benefits within the particular discretionary grant program.

Policies and Investments To Improve Highway Safety

Highway safety has been an increasing focus and priority for FHWA over the recent past. Targeting discretionary funding in a results-oriented comprehensive approach to safety is a means of directing limited discretionary funding to those projects that will yield tangible transportation and safety benefits. Improving highway safety is achieved most effectively through a comprehensive approach which integrates the “4Es” of safety: Engineering, Education, Enforcement, and Emergency Medical Systems. It allows safety professionals to consider the full range of safety tools to address problems, make the choice based on the most effective countermeasure, and implement strategies that may require not only an engineering fix but also targeted enforcement and greater public awareness.

Specific Actions Enhancing the Safety of Highway Users

Highway fatalities totaled 43,443 on our Nation's highways in 2005, up from 42,836 in 2004; according to the Fatality Analysis Reporting System (FARS). The rate of highway fatalities, measured in terms of deaths per 100 million vehicle miles traveled has remained relatively constant over the past several years at approximately 1.45; failing to maintain a steady decline in the 2000's as was seen over the previous 3 decades or more. If the fatality rate remains at the current level, the Nation would experience nearly 50,000 deaths a year by the end of this decade. In addition to the tragedy of lives lost and millions of serious injuries sustained, the economic impact to the Nation is enormous.

According to a study conducted by the National Highway Traffic Safety Administration, it is estimated that current levels of highway crashes have an annual economic impact of over $230 billion (in year 2000 dollars) in the United States,

Improving highway safety is achieved most effectively through a comprehensive approach which integrates the “4Es” of safety: Engineering, Education, Enforcement, and Emergency Medical Systems. It allows safety professionals to consider the full range of safety tools to address problems, make a choice based on the most effective countermeasure, and implement strategies that may require not only engineering solutions, but also targeted enforcement and greater public awareness.

Highway design, the infrastructure side of the engineering “E” of safety, also plays a significant role. The FHWA is focusing resources on three major crash types to improve infrastructure safety: Roadway departure, intersection, and pedestrian crashes. In addition, a number of cross-cutting programs support infrastructure safety, such as work zones, visibility, older and younger road users, and speed management.

Roadway Departure—Roadway departure crashes, which include vehicles leaving the roadway as well as head-on crashes, represent 59 percent of all fatalities. Two-lane rural roads are a particular concern, as vehicles have little opportunity to recover if they leave the pavement, and the opportunity for head-on collisions is greater. Barrier systems are designed to mitigate the consequences of leaving the roadway, if a hazardous roadside object cannot otherwise be removed. Barrier systems may also be applied in the median of divided roadways to physically separate traffic and prevent head-on collisions from occurring. Rumble strips (longitudinal and transverse) have proven to be a life-saving countermeasure, on shoulders of divided four-lane facilities, as centerlines on two-lane roadways, and at approaches to intersections and sharp curves.

Intersection—Intersection crashes represent 21 percent of all fatalities. This includes both signalized as well as unsignalized intersections. Intersection-related crashes represent more than 50 percent of all crashes in urban areas and 30 percent of all crashes in rural areas. Safety strategies for intersections range from simple adjustments to the signal timing to innovative intersection designs. Traditional intersection safety strategies include improving horizontal and/or vertical sight distances, adding a protected-only left turn phase, improving advance signing, and installing and improving lighting. Reducing the occurrence of red light running through camera enforcement can be an effective tool from an enforcement perspective. In addition, installation of an innovative intersection design, such as a roundabout, and the application of Intelligent Transportation System (ITS) technologies are promising for safety overall, and particularly for intersections.

Pedestrian—Pedestrian fatalities represent 11 percent of all highway fatalities. While the pedestrian safety challenge is predominantly urban in nature, some States do have rural pedestrian issues. The types of safety strategies effective at reducing pedestrian fatalities are similar to those effective for intersection fatalities. Adequate lighting can make a significant impact on pedestrian safety. Good delineation and advance signing are also important. Channeling pedestrian movements can improve safety, as the majority of pedestrian fatalities occur at mid-block locations. Traffic calming techniques that reduce and control speed are also important to increased pedestrian safety. In addition, adequate sidewalks and walkways are critical to safe and efficient pedestrian movements.

Cross-cutting Programs—In addition to the three focus areas noted above, safety can be advanced in a number of cross-cutting areas. Work zone fatalities represent approximately 1,000 fatalities annually. Work zone safety may be increased through proper planning and phasing; use of standard signing and markings; use of technologies such as work area intrusion alarms, queue detection sensors, and speed feedback signs; and strong enforcement. Older and younger road users experience a much higher fatality rate than the general population. Improved lighting and adequate retroreflective signs and pavement markings allow all users to benefit from good roadway delineation and provide all drivers with the information needed to make safe decisions. Speed management has great potential for significantly advancing safety; this activity includes education and training needed to set appropriate speed limits, enforcement to ensure compliance with appropriate speeds, and engineering roadways to encourage safe speeds. Speed management strategies range from the application of automated enforcement to traffic calming techniques.

Behavioral Safety Issues—The safe engineering of roads and roadsides is only one part of the safety equation. Without consistent improvement in driver behavior, traffic enforcement, and emergency medical services, dramatic reductions in highway fatalities will not occur, even with engineering improvements. To address these behavioral problems, the National Highway Traffic Safety Administration works closely with State and local governments to increase public education and awareness and support targeted enforcement campaigns.

The Challenges of Highway Congestion

Transportation system congestion is one of the single largest threats to U.S. economic prosperity and the American way of life. In response to the challenges of congestion, in May 2006 the Department of Transportation established the National Strategy to Reduce Congestion on America's Transportation Network (the “Congestion Initiative”). FHWA's increased emphasis on congestion reduction in its distribution of FY 2007 discretionary funding is directly in support of the Congestion Initiative, and FHWA expects that the projects funded through the eight discretionary programs described in this notice will yield tangible economic and transportation benefits that are likely to far exceed the Federal investment in each project.

Traffic congestion affects people in nearly every aspect of their daily lives—where they live, where they work, where they shop, and how much they pay for goods and services. According to 2003 figures, in certain metropolitan areas the average rush hour driver loses as many as 93 hours per year to travel delay—the equivalent of more than two weeks of work that amounts annually to a “congestion tax” as high as $1,598 per traveler in wasted time and fuel.¹ Nationwide, congestion imposes costs on the economy of at least $63 billion per year.² The costs of congestion are significantly higher when taking into account the cost of unreliability to drivers and businesses, the environmental impacts of idle-related auto emissions, increased gasoline prices and the immobility of labor markets that result from congestion.

¹ Texas Transportation Institute (“TTI”), 2005 Urban Mobility Report, May 2005 (http://tti.tamu.edu/documents/mobility_report_2005.pdf), Tables 1 and 2.

² TTI, 2005 Urban Mobility Report, p. 1.

Nationally, in a 2005 survey conducted by the National League of Cities, 35% of U.S. citizens reported traffic congestion as the most deteriorated living condition in their cities over the past five years; 85% responded that traffic congestion was as bad as, or worse than, it was in the previous year.³ Similarly, in a 2001 survey conducted by the U.S. Conference of Mayors, 79% of Americans from ten metropolitan areas reported that congestion had worsened in the prior five years; 50% believe it has become “much worse.”⁴

³ National League of Cities survey of cities (2005).

⁴ U.S. Conference of Mayors survey on traffic congestion (2001).

Policies and Investments To Reduce Congestion

A variety of transportation policies and investments serve to reduce congestion, including design, engineering, operational and technological improvements. The most important—albeit often misunderstood—congestion reduction measure is congestion pricing. Congestion pricing leverages the principles of supply and demand to manage traffic. It does this by charging drivers a user fee that varies by traffic volume (or as a proxy for volume—by time of day), thus managing highway resources in a manner that promotes free-flow traffic conditions on highways virtually twenty-four hours per day. Congestion pricing achieves free-flow conditions by shifting rush hour highway travel to other transportation modes or routes or to off-peak periods, taking particular advantage of the fact that many rush hour drivers on typical urban highways are not commuters. By removing a fraction of the vehicles from a congested rush hour roadway, pricing enables the system to flow much more efficiently, allowing more cars to move through the same physical space. Similar variable charges have been successfully utilized in other industries (on airline tickets, cell phone rates, and electricity, for example), and there is a consensus among economists that congestion pricing represents the single most viable approach to reducing traffic congestion.

Congestion pricing is no longer simply a theory; it has demonstrated positive results both here in the U.S. and around the world. Successful American applications of congestion pricing include California's SR-91 between Anaheim and Riverside, portions of I-15 outside of San Diego, and Express Lanes on I-394 between downtown Minneapolis and the western suburbs. The pricing of each of these facilities has enabled congestion-free rush hour commuting and proven popular with drivers of all income levels. Internationally, congestion pricing has yielded dramatic reductions in traffic congestion and increases in travel speeds in Singapore, London, and Stockholm. Notably, a small reduction in vehicles can yield dramatic improvements in traffic, as demonstrated by a British study, which projected that a 9% drop in traffic could yield a 52% drop in congestion delay.⁵ This same dynamic plays out in metropolitan areas every August, as family vacations lead to a minor decrease in rush hour drivers, which substantially reduces area traffic congestion.

⁵ Department of Transport, U.K., Feasibility Study of Road Pricing in the U.K.: A Report to the Secretary of State for Transport, Road Price Steering Group, Chapter 4, Figure 3.

In all its forms, congestion pricing benefits drivers and businesses by reducing delays and stress, increasing the predictability of trip times, and allowing for more deliveries per hour. It benefits public transportation by improving transit speeds and the reliability of transit service, increasing transit ridership and lowering costs per traveler for transit providers. State and local governments benefit by improving the quality of transportation services without tax increases or large capital expenditures, providing additional revenues for funding transportation, retaining businesses and expanding the tax base. It saves lives by shortening incident response times for emergency responders. And, it benefits society as a whole by reducing fuel consumption and vehicle emissions, allowing for more efficient land use decisions, reducing housing market distortions, and increasing time available for participation in civic life.

Beyond pricing, technological advancements may be deployed to reduce urban congestion by improving system operations and safety. Examples of technological innovations that may help reduce congestion include:

• Longitudinal control designed to enhance spatial efficiency on existing highways, precision docking, and real-time travel information;

• Traffic management technology, including adaptive traffic signal control systems and the use of cameras to provide real-time information to first responders to help them determine what equipment they will need before they arrive at the site of an accident or incident; and

• Advanced traveler information systems that provide web or wireless access to route-specific travel time and toll information; route planning assistance using historical records of congestion by time of day; parking alerts; vehicle locator systems; or communications technologies that gather traffic- and incident-related data from a few vehicles traveling on a roadway and then publish that information to drivers via mobile phones, in-car units or dynamic message signs.

B. Discretionary Grant Applications Should Specify Safety and Congestion Reduction Benefits Associated With the Project Seeking Funding

Discretionary grant applications to any of the programs must be responsive to each program's specific statutory criteria. However, in addition to those criteria, the applicant should provide further description of the highway safety and congestion reduction benefits of the project, as follows:

1. Highway Safety benefits. With respect to safety, the applicant should describe the safety benefits associated with the project or activity for which funding is sought, including whether the project, activity, or improvement:

• Will result in a measurable reduction in the loss of property, injury, or life;

• Incorporates innovative safety design or operational techniques, including variable pricing for congestion reduction, electronic tolling, barrier systems, and intersection-related enhancements;

• Incorporates innovative construction work zone strategies to improve safety;

• Is located on a rural road that is in need of priority attention based on analysis of safety experience; and/or

• Is located in an urban area of high injury or fatality, and is an initiative to improve the design, operation or other aspect of the existing facility that will result in a measurable safety improvement.

2. Congestion reduction benefits. With respect to congestion, the applicant should describe the extent (if any) to which the project, activity, or improvement:

• Relieves congestion in an urban area or along a major transportation corridor;

• Employs operational and technological improvements that promote safety and congestion relief; and/or ⁶

⁶ Traditional toll plazas may create traffic backups that present a safety hazard; the conversion of traditional plazas to electronic toll collection systems should greatly reduce such hazards and improve safety on toll roads. See Highway Accident Report NTSB/HAR-06/03 “Multivehicle Collision on Interstate 90 Hampshire-Marengo Toll Plaza Near Hampshire, Illinois” (October 1, 2003).

• Addresses major freight bottlenecks.

C. Coordination With Other Congestion Initiative Solicitations

In keeping with the Department's emphasis on congestion reduction, the Department has issued a number of other solicitations related to the Congestion Initiative. The Department encourages applicants to coordinate their responses to this Notice with any applications submitted in response to the solicitations listed below. Applicants that also apply for funding under the Urban Partnership Agreement Program (see (1) below), Intelligent Transportation System Operational Testing to Mitigate Congestion Program (see (2) below), Value Pricing Pilot Program (see (3) below), and/or Corridors of the Future Program (see (4) below) must respond separately to each solicitation from which they seek funding. However, the Department will give priority consideration in its funding decisions to parties designated as either Urban Partners or Corridors of the Future.

The related solicitations are:

(1) Solicitation for the Urban Partnership Agreement (UPA), published on December 8, 2006, in the Federal Register at 71 FR 71233. The purpose of the UPA solicitation is to solicit proposals by metropolitan areas to enter into UPAs with the Department in order to demonstrate strategies with a combined track record of effectiveness in reducing traffic congestion.

(2) Solicitation for the Value Pricing Pilot (VPP) Program. The VPP Program, § 1012(b) of Public Law 102-240, as amended by § 1216(a) of Public Law 105-178, and § 1604(a) of Public Law 109-59, 119 Stat. 1249, supports implementation of a variety of pricing-based approaches for managing congestion on highways. The solicitation for the VPP Program, published December 22, 2006, in the Federal Register at 71 FR 777084, aligns the program with the Congestion Initiative to support metropolitan areas in implementing broad congestion pricing strategies in the near term.

(3) Solicitation for the Intelligent Transportation System Operational Testing to Mitigate Congestion (ITS-OTMC) Program. The ITS Research and Development program, as reauthorized in SAFETEA-LU, supports the research, development and testing of ITS for a variety of purposes. The solicitation for the ITS-OTMC Program, published on December 18, 2006, in the Federal Register at 71 FR 75806, supports the operational testing and evaluation of advanced technologies to reduce metropolitan congestion.

(4) In addition to these solicitations, the DOT's new “Corridors of the Future Program” (CFP) is part of the Congestion Initiative, and is specifically designed to accelerate the development of multi-State, and possibly multi-use, transportation corridors to help reduce congestion. The primary goal of the CFP is to encourage States to leverage public and private resources to develop innovative national and regional approaches to reducing congestion, increase freight system reliability and enhance the quality of life for U.S. citizens. The CFP contributes to the objectives of the DOT corridor programs by specifically working with multi-State coalitions to identify innovative funding sources for corridors of national and regional significance in need of investment and improved operations for the purpose of reducing congestion. Eligible CFP public and private sector entities should work with their State DOT to identify and submit appropriate candidate applications for discretionary grant fund allocations under the discretionary programs discussed herein.

For more information on the DOT Congestion Initiative, please refer to http://www.fhwa.dot.gov/congestion/index.htm and http://www.fightgridlocknow.gov/.

D. Solicitation Deadline Extension

Applications for discretionary projects were generally solicited through FHWA Division offices to the State DOTs in early January 2007, with a deadline of March 30, 2007. This solicitation extends the deadline to April 30, 2007, except for the HfL program, which shall close two weeks after the publication of this notice. By this notice, and by the dissemination of the Supplemental Action Memoranda for the discretionary programs, the FHWA is issuing new notices amending prior notices and re-soliciting applications for these programs in accordance with their statutory criteria under a merit based selection process. This notice also clarifies that project applications should specify safety and congestion reduction benefits associated with the project, improvement, or activity. The amended grant application procedures are posted at http://www.fhwa.dot.gov/discretionary/currsol.htm and will be distributed electronically to all FHWA Division offices and through the Division offices to the State DOTs.

The Administrator, acting on behalf of the Secretary, may amend, revise, waive or modify the terms for funding set forth in this notice at any time.

Authority: 23 U.S.C. 315.

Issued on: March 16, 2007.
J. Richard Capka,
Federal Highway Administrator.

[FR Doc. E7-5161 Filed 3-21-07; 8:45 am]

BILLING CODE 4910-22-P